INTERNATIONAL TRADE COMMISSION

[USITC SE-14-033]

Sunshine Act Meeting

AGENCY HOLDING THE MEETING: United States International Trade Commission

TIME AND DATE: October 10, 2014 at 11:00 a.m.

PLACE: Room 101, 500 E Street SW., Washington, DC 20436, Telephone: (202) 205-2000.

STATUS: Open to the public

MATTERS TO BE CONSIDERED:

1. Agendas for future meetings: none

2. Minutes

3. Ratification List

4. Vote in Inv. Nos. 701-TA-523 and 731-TA-1259 (Preliminary)(Boltless Steel Shelving Units Prepackaged for Sale from China). The Commission is currently scheduled to complete and file its determinations on October 10, 2014; views of the Commission are currently scheduled to be completed and filed on October 20, 2014.

5. Outstanding action jackets: none

In accordance with Commission policy, subject matter listed above, not disposed of at the scheduled meeting, may be carried over to the agenda of the following meeting.

Issued: September 30, 2014.
By order of the Commission.
William R. Bishop,
Supervisory Hearings and Information Officer.

[FR Doc. 2014-23761 Filed 10-1-14; 4:15 pm]

BILLING CODE 7020-02-P